DEPARTMENT OF THE INTERIOR

Bureau of Land Management

[CA-180-06-1610-DP]

Notice of Availability of Draft Sierra Resource Management Plan and Draft Environmental Impact Statement, California

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Resource Management Plan/Environmental Impact Statement (RMP/EIS) for the Sierra planning area, managed by the Folsom Field Office. This notice announces the opening of the comment period.

DATES: To assure that they will be considered, BLM must receive written comments on the Draft RMP/EIS within 90 days following the date the Environmental Protection Agency publishes their Notice of Availability in the Federal Register. The BLM will announce future meetings or hearings and any other public involvement activities at least 15 days in advance through public notices, media news releases, and/or mailings.

ADDRESSES: You may submit comments by any of the following methods:

• E-mail: caformp@ca.blm.gov.

• Fax: 916-985-3259.

• Mail: 63 Natoma Street, Folsom, CA 95630.

FOR FURTHER INFORMATION CONTACT: James Barnes, 916-985-4474.

SUPPLEMENTARY INFORMATION: The planning area for the Sierra RMP is the Folsom Field Office's area of management responsibility. The planning area comprises the 15 counties of Yuba, Sutter, Colusa, Nevada, Placer, El Dorado, Alpine, Amador, Calaveras, San Joaquin, Tuolumne, Mariposa, Sacramento, Stanislaus, and Merced. A total of 230,000 acres of public lands are administered by BLM in the planning area. In addition, approximately 300,000 acres of subsurface mineral estate are administered by the field office, which includes approximately 72,000 acres of nonfederal surface lands where BLM administers the subsurface mineral estate. The decisions promulgated in the RMP will only apply to the BLM-administered public lands and mineral estate within the planning area. The Sierra Draft RMP/EIS has been developed through a collaborative planning process and considers four alternatives. The primary issues addressed include: Recreation; protection of sensitive natural and cultural resources; livestock grazing; energy and mineral development; land tenure adjustments; and motorized vehicle area and route designations. The Draft RMP/EIS includes Wild and Scenic River suitability recommendations, as well as proposals for Areas of Critical Environmental Concern (ACECs). The preferred alternative includes two river segment recommendations: South Fork American River (8.8 miles—recreational) and North Fork and Main Mokelumne River (13.7 miles—wild, scenic, recreational). The preferred alternative also proposes the following ACECs: Pine Hill Preserve ACEC—3,236 acres (proposed); Cosumnes River Preserve ACEC—2,035 acres (proposed); Spivey Pond ACEC—54 acres (proposed); Deadman's Flat ACEC—796 acres (proposed); Dutch Flat/Indiana Hill ACEC/RNA—320 acres (proposed); Bagby Serpentine ACEC—5,775 (proposed); Red Hills ACEC—7,184 acres (existing), 2,824 acres (proposed addition); Ione Manzanita ACEC—122 acres (existing), 141 acres (proposed addition); and Limestone Salamander ACEC—1,728 acres (existing), 473 acres (proposed addition). One additional ACEC was considered but not included in the preferred alternative: Yuba Brownsville ACEC—198 acres. Use of public lands within these ACECs would vary, depending on the resources and/or values identified (see Chapter 2 of the Draft RMP/EIS), but would likely include limitations on motorized-vehicle use, mining, and other surface disturbing activities.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Copies of the Sierra Draft RMP/Draft EIS are available in the Folsom Field Office at the above address; at the BLM California State Office, 2800 Cottage Way, Sacramento, CA; and online at http://www.ca.blm.gov/folsom.

Dated: June 19, 2006.
James Eicher,
Field Manager.

[FR Doc. E6-15306 Filed 9-14-06; 8:45 am]

BILLING CODE 4310-HC-P